SMALL BUSINESS ADMINISTRATION

[Disaster Declaration # 10205 and # 10206]

Louisiana Disaster Number LA-00004

AGENCY: Small Business Administration.

ACTION: Amendment 3.

SUMMARY: This is an amendment of the Presidential declaration of a major disaster for the State of Louisiana (FEMA-1607-DR), dated 09/24/2005.

Incident: Hurricane Rita.

Incident Period: 09/23/2005 and continuing.

Effective Date: 09/29/2005.

Physical Loan Application Deadline Date: 11/23/2005.

EIDL Loan Application Deadline Date: 06/26/2006.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Louisiana, dated 09/24/2005, is hereby amended to include the following areas as adversely affected by the disaster:

Primary Parishes: Ascension, Saint Martin, Vernon, West Baton Rouge.

Contiguous Parishes: Louisiana: East Baton Rouge, East Feliciana, Livingston, Natchitoches, Pointe Coupee, Sabine, West Feliciana.

All other information in the original declaration remains unchanged.

(Catalog of Federal Domestic Assistance Numbers 59002 and 59008)
Herbert L. Mitchell,
Associate Administrator, for Disaster Assistance.

[FR Doc. 05-20640 Filed 10-14-05; 8:45 am]

BILLING CODE 8025-01-P